DEPARTMENT OF COMMERCE

National Oceanic and Atmospheric Administration

RIN 0648-XB159

Marine Mammals; File No. 17217

AGENCY: National Marine Fisheries Service (NMFS), National Oceanic and Atmospheric Administration (NOAA), Commerce.

ACTION: Notice; receipt of application.

SUMMARY: Notice is hereby given that the Saint Louis Zoo, 1 Government Drive, St. Louis, MO 63110, has applied in due form for a permit to import four harbor seals (Phoca vitulina) for the purposes of public display.

DATES: Written, telefaxed, or email comments must be received on or before May 16, 2012.

ADDRESSES: The application and related documents are available upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, Florida 33701; phone (727) 824-5312; fax (727) 824-5309.

Written comments on this application should be submitted to the Chief, Permits and Conservation Division, at the address listed above. Comments may also be submitted by facsimile to (301) 713-0376, or by email to NMFS.Pr1Comments@noaa.gov. Please include the File No. 17217 in the subject line of the email comment.

Those individuals requesting a public hearing should submit a written request to the Chief, Permits and Conservation Division at the address listed above. The request should set forth the specific reasons why a hearing on this application would be appropriate.

FOR FURTHER INFORMATION CONTACT: Jennifer Skidmore or Colette Cairns, (301) 427-8401.

SUPPLEMENTARY INFORMATION: The subject permit is requested under the authority of the Marine Mammal Protection Act of 1972, as amended (MMPA; 16 U.S.C. 1361 et seq.), and the regulations governing the taking and importing of marine mammals (50 CFR part 216).

The applicant requests authorization to import four female harbor seals from the Storybrook Gardens, 1958 Storybrook Lane, London, Ontario, N6K 4Y6, Canada for purposes of public display at the St. Louis Zoo. The receiving facility: (1) Is open to the public on regularly scheduled basis with access that is not limited or restricted other than by charging an admission fee; (2) offers an educational program based on professionally recognized standards; and (3) holds an Exhibitor's License, number 43-C-0032, issued by the U.S. Department of Agriculture under the Animal Welfare Act (7 U.S.C. 2131—59). The import would occur upon receipt of the permit and the permit would expire one year after the date of issuance.

In addition to determining whether the applicant meets the three public display criteria, NMFS must determine whether the applicant has demonstrated that the proposed activity is humane and does not represent any unnecessary risks to the health and welfare of marine mammals; that the proposed activity by itself, or in combination with other activities, will not likely have a significant adverse impact on the species or stock; and that the applicant's expertise, facilities and resources are adequate to accomplish successfully the objectives and activities stated in the application.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: April 11, 2012.
Tammy C. Adams,
Acting Chief, Permits, Conservation and Education Division, Office of Protected Resources, National Marine Fisheries Service.

[FR Doc. 2012-9088 Filed 4-13-12; 8:45 am]

BILLING CODE 3510-22-P